DEPARTMENT OF COMMERCE

National Oceanic and Atmospheric Administration

RIN 0648-XE025

Mid-Atlantic Fishery Management Council (MAFMC); Public Meeting

AGENCY: National Marine Fisheries Service (NMFS), National Oceanic and Atmospheric Administration (NOAA), Commerce.

ACTION: Notice of public meeting.

SUMMARY: The Scientific and Statistical Committee (SSC) of the Mid-Atlantic Fishery Management Council (Council) will hold a meeting.

DATES: The SSC meeting will be held Tuesday through Thursday, July 21-23, 2015. The meeting will begin at 1 p.m. on July 21 and conclude by 2 p.m. on July 23.

ADDRESSES: The meeting will be held at the Royal Sonesta Hotel, 550 Light Street, Baltimore, MD 21202; telephone: (410) 234-0550.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: Agenda items to be discussed at the SSC meeting include: Review fishery performance reports and recommend multi-year ABC specifications for bluefish, summer flounder, scup and black sea bass (including review data poor methods applied to black sea bass for potential changes to current and future ABC specifications); update on rumble strip analyses for multi-year ABC specifications; update on research prioritization and five-year research plan development; discuss outcomes from the Fifth National SSC Workshop; discuss blueline tilefish research needs; and update on Unmanaged Forage Initiative.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: June 29, 2015.
Tracey L. Thompson,
Acting Deputy Director, Office of Sustainable Fisheries, National Marine Fisheries Service.

[FR Doc. 2015-16327 Filed 7-1-15; 8:45 am]

BILLING CODE 3510-22-P